DEPARTMENT OF TRANSPORTATION

Federal Highway Administration

Environmental Impact Statement; Wright, Stearns and Sherburne Countries, MN

AGENCY: Federal Highway Administration (FHWA), DOT.

ACTION: Revised notice of intent.

SUMMARY: The FHWA is issuing this revised notice to advise the public that a tiered environmental impact statement (EIS) will no longer be prepared for proposed highway capacity improvements on existing or new alignments that connect Interstate 94 (I-94) and Trunk Highway 10 (TH 10) between the cities of Becker and St. Cloud, Minnesota. The proposed alignment connections being studied include existing and new crossings of the Mississippi River. Rather, a conventional EIS will be prepared for the proposed improvements.

FOR FURTHER INFORMATION CONTACT: Cheryl Martin, Federal Highway Administration, Galtier Plaza, 380 Jackson Street, Suite 500, St. Paul, Minnesota 55101, Telephone (651) 291-6120; or Terry Humbert, Project Manager, Minnesota Department of Transportation—District 3, 3725 12th Street North, St. Cloud, Minnesota 56303, Telephone (320) 654-5520, V (651) 296-9930 TTY.

SUPPLEMENTARY INFORMATION: As indicated in the Notice of Intent published in the Federal Register on May 8, 1997, the FHWA, in cooperation with the Minnesota Department of Transportation (MnDOT), is preparing an EIS on a proposal to improve highway capacity for connections between I-94 and TH 10 between the cities of Becker and St. Cloud, Minnesota, including a crossing of the Mississippi River. The area of the proposed improvements is located in Wright, Stearns and Sherburne Counties.

There has been a change in the planned approach to the environmental review process for this project since the Notice of Intent was published in the Federal Register. The Notice of Intent indicated that a tiered EIS process would be used for the proposed project based on a projected 15 to 20-year funding and implementation schedule and a need to protect right-of-way for a preferred alternative. Since the publication of the Notice of Intent, the proposed regional connection capacity improvements have been identified as important in serving state Inter-Regional Corridor System goals. As a result, the project has the potential to receive higher funding priority than had previously been anticipated. Therefore, a conventional (i.e., not tiered) EIS process has been determined to better suit the potential project implementation schedule. Coordination has been initiated and will continue with appropriate Federal, State and local agencies, and private organizations and citizens who have previously expressed or are known to have an interest in the proposed action. Public meetings have been held in the past and will continue to be held, with public notice given for the time and place of the meetings.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program)
Issued on: February 24, 2003.
Stanley M. Graczyk,
Project Development Engineer, Federal Highway Administration.

[FR Doc. 03-5873 Filed 3-11-03; 8:45 am]

BILLING CODE 4910-22-M